DEPARTMENT OF THE TREASURY

Fiscal Service

Surety and Reinsuring Companies; Fees

AGENCY: Financial Management Service, Fiscal Service, Department of the Treasury.

ACTION: Application and Renewal Fees Imposed on Surety Companies and Reinsuring Companies; Increase in Fees Imposed.

SUMMARY: Effective December 31, 2005, The Department of the Treasury, Financial Management Service, is increasing the fees it imposes on and collects from surety companies and reinsuring companies.

FOR FURTHER INFORMATION CONTACT: Surety Bond Branch at (202) 874-6765.

SUPPLEMENTARY INFORMATION: The fees imposed and collected, as referred to in 31 CFR 223.22, cover the costs incurred by the Government for services performed relative to qualifying corporate sureties to write Federal business. These fees are determined in accordance with the Office of Management and Budget Circular A-25, as amended. The change in fees is the result of a thorough analysis of costs associated with the Surety Bond Branch.

The new fee rate schedule is as follows:

(1) Examination of a company's application for a Certificate of Authority as an acceptable surety as an acceptable reinsuring company on Federal bonds—$7,500.

(2) Determination of a company's continued qualification for annual renewal of its Certificate of Authority—$4,400.

(3) Examination of a company's application for recognition as an Admitted Reinsurer (except on excess risks running to the United States)—$2,650.

(4) Determination of a company's continued qualification for annual renewal of its authority as an Admitted Reinsurer—$1,875.

Questions concerning this notice should be directed to the Surety Bond Branch, Financial Accounting and Services Division, Financial Management Service Department of the Treasury, 3700 East West Highway, Room 6F01, Hyattsville, MD 20782, Telephone (202) 874-6850.

Dated: December 22, 2005.
Wanda J. Rogers,
Assistant Commissioner Financial Operations, Financial Management Service.

[FR Doc. 05-24561 Filed 12-28-05; 8:45 am]

BILLING CODE 4810-35-M